DEPARTMENT OF TRANSPORTATION

Federal Aviation Administration

14 CFR Part 39

[Docket No. FAA-2012-0488; Directorate Identifier 2011-NM-106-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A300 B4-600 and A300 B4-600R, Model A300, and Model A310 series airplanes. This proposed AD was prompted by reports of fatigue cracking in the crossbeams at the junction of the actuator beam of the lower deck cargo door. This proposed AD would require repetitive inspections of the crossbeams of certain fuselage frames, and repair if necessary. We are proposing this AD to detect and correct cracking of the crossbeams at the junction of the actuator beam of the lower deck cargo door, which could result in failure to withstand ultimate load conditions, and consequent reduced structural integrity of the airplane.

DATES: We must receive comments on this proposed AD by July 6, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2012-0488; Directorate Identifier 2011-NM-106-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the aviation authority for the Member States of the European Community, has issued EASA Airworthiness Directive 2011-0086, dated May 12, 2011 (referred to after this as “the MCAI”), to correct an unsafe condition for the specified products. The MCAI states:

Some operators have reported cracked crossbeams at the junction with the lower deck cargo door actuator beam. The investigation results indicate that these cracks initiated in the fastener hole, propagated in a vertical direction and were due to fatigue.

This condition, if not corrected, could lead, in case of cracks propagation in a crossbeam (upper and lower web), to the floor grid being unable to withstand ultimate load condition.

For the reasons described above, this [EASA] AD requires repetitive [high frequency eddy current] inspections [for cracks] of certain crossbeams including those previously repaired by the Structure Repair Manual (SRM) or Repair Approval Sheet (RAS).

The required actions include repairing any cracking. As an option, modifying the crossbeams terminates the repetitive inspections. You may obtain further information by examining the MCAI in the AD docket.

Relevant Service Information

Airbus has issued the following Service Bulletins:

• A300-53-0389, Revision 02, dated April 27, 2011;

• A310-53-2133, Revision 02, dated April 27, 2011; and

• A300-53-6166, Revision 01, dated May 21, 2010.

Airbus has also issued the following Mandatory Service Bulletins:

• A300-53-0390, dated January 15, 2010;

• A310-53-2134, dated January 15, 2010; and

• A300-53-6168, dated January 15, 2010.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Where the service information identified in the “Relevant Service Information” section specifies to contact the manufacturer for instructions on certain cracking conditions, this proposed AD would require repairing those conditions using a method approved by the FAA or EASA (or its delegated agent). In light of the type of repair that would be required to address the unsafe condition, and consistent with existing bilateral airworthiness agreements, we have determined that, for this proposed AD, a repair approved by the FAA or the EASA (or its delegated agent) would be acceptable for compliance with this proposed AD.

Although the MCAI allows further flight after cracks are found during compliance with the required action, this proposed AD would require repair of any cracked/damaged frames before further flight. This difference has been coordinated with the EASA.

Costs of Compliance

Based on the service information, we estimate that this proposed AD would affect about 152 products of U.S. registry. We also estimate that it would take about 1 work-hour per product to comply with the basic requirements of this proposed AD. The average labor rate is $85 per work-hour. Based on these figures, we estimate the cost of the proposed AD on U.S. operators to be $12,920, or $85 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2012-0488; Directorate Identifier 2011-NM-106-AD.

(a) Comments Due Date

We must receive comments by July 6, 2012.

(b) Affected ADs

None.

(c) Applicability

This AD applies to Airbus Model A300 B2-1A, B2-1C, B2K-3C, B2-203, B4-2C, B4-103, and B4-203; Model A300 B4-601, B4-603, B4-620, and B4-622 airplanes; Model A300 B4-605R and B4-622R airplanes; and Model A310-203, -204, -221, -222, -304, -322, -324, and -325 airplanes; certificated in any category; except those identified in paragraph (c)(1), (c)(2), or (c)(3) of this AD, as applicable.

(1) Airplanes on which Airbus Service Bulletin A300-53-6166 (Airbus Modification 13434) has been embodied in service (for Model A300 B4-600 and A300 B4-600R series airplanes).

(2) Airplanes on which Airbus Service Bulletin A300-53-0389 (Airbus Modification 13434) has been embodied in service (for Model A300 series airplanes).

(3) Airplanes on which Airbus Service Bulletin A310-53-2133 (Airbus Modification 13434) has been embodied in service (for Model A310 series airplanes).

(d) Subject

Air Transport Association (ATA) of America Code 53: Fuselage.

(e) Reason

This AD was prompted by reports of fatigue cracking in the crossbeams at the junction of the actuator beam of the lower deck cargo door. We are issuing this AD to detect and correct cracking of the crossbeams at the junction of actuator beam of the lower deck cargo door, which could result in failure to withstand ultimate load conditions, and consequent reduced structural integrity of the airplane.

(f) Compliance

You are responsible for having the actions required by this AD performed within the compliance times specified, unless the actions have already been done.

(g) Repetitive High Frequency Eddy Current Inspections

(1) For airplanes on which the crossbeams at frames (FR) 22/23 and FR 61/62 have not been repaired as specified in an Airbus structural repair manual or repair approval sheet as of the effective date of this AD: Before the accumulation of 10,000 total flight cycles since first flight of the airplane, or within 600 flight cycles after the effective date of this AD, whichever occurs later; perform a high frequency eddy current (HFEC) inspection for cracking of the crossbeam fuselage frame stations FR 22/23 and FR 61/62, in accordance with the Accomplishment Instructions of the applicable service bulletin identified in paragraph (g)(1)(i), (g)(1)(ii), or (g)(1)(iii) of this AD. Repeat the inspection thereafter at intervals not to exceed 600 flight cycles until the modification specified in paragraph (i) of this AD has been done.

(i) Airbus Mandatory Service Bulletin A300-53-0390, dated January 15, 2010 (for Model A300 series airplanes).

(ii) Airbus Mandatory Service Bulletin A310-53-2134, dated January 15, 2010 (for Model A310 series airplanes).

(iii) Airbus Mandatory Service Bulletin A300-53-6168, dated January 15, 2010 (for Model A300-600 series airplanes).

(2) For airplanes on which the crossbeams at FR 22/23 and FR 61/62 have been repaired as specified in an Airbus structural repair manual or repair approval sheet as of the effective date of this AD: Before the accumulation of 10,000 total flight cycles since first flight of the airplane, or within 600 flight cycles after the effective date of this AD, whichever occurs later; repair in accordance with a method approved by the Manager, International Branch, ANM-116, Transport Airplane Directorate, FAA; or the European Aviation Safety Agency (EASA) (or its delegated agent).

(h) Corrective Action

If any crack is found during any inspection required by paragraph (g) of this AD: Before further flight repair any crack using a method approved by the Manager, International Branch, ANM-116; or EASA (or its delegated agent).

(i) Optional Terminating Action

Modifying the crossbeam fuselage frame stations FR 22/23 and FR 61/62, including doing rotating probe inspections for cracks of fastener holes in accordance with the Accomplishment Instructions of the applicable service bulletin identified in paragraph (i)(1), (i)(2), or (i)(3) of this AD, and repairing any crack using a method approved by the Manager, International Branch, ANM-116; or EASA (or its delegated agent), terminates the repetitive inspections required by paragraph (g)(1) of this AD.

(1) Airbus Service Bulletin A300-53-0389, Revision 02, dated April 27, 2011 (for Model A300 series airplanes).

(2) Airbus Service Bulletin A310-53-2133, Revision 02, dated April 27, 2011 (for Model A310 series airplanes).

(3) Airbus Service Bulletin A300-53-6166, Revision 01, dated May 21, 2010 (for Model A300-600 series airplanes).

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149: Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to EASA Airworthiness Directive 2011-0086, dated May 12, 2011; and the applicable service bulletin identified in paragraphs (k)(1), (k)(2), (k)(3), (k)(4), (k)(5), and (k)(6) of this AD for related information.

(1) Airbus Service Bulletin A300-53-0389, Revision 02, dated April 27, 2011.

(2) Airbus Service Bulletin A310-53-2133, Revision 02, dated April 27, 2011.

(3) Airbus Service Bulletin A300-53-6166, Revision 01, dated May 21, 2010. (4) Airbus Mandatory Service Bulletin A300-53-0390, dated January 15, 2010.

(5) Airbus Mandatory Service Bulletin A310-53-2134, dated January 15, 2010.

(6) Airbus Mandatory Service Bulletin A300-53-6168, dated January 15, 2010.

Issued in Renton, Washington, on May 10, 2012.
Michael Kaszycki,
Acting Manager, Transport Airplane Directorate, Aircraft Certification Service.

[FR Doc. 2012-12339 Filed 5-21-12; 8:45 am]

BILLING CODE 4910-13-P